DEPARTMENT OF AGRICULTURE

Animal and Plant Health Inspection Service

[Docket No. APHIS-2016-0072]

Addition of Lebanon to the List of Regions Affected by Highly Pathogenic Avian Influenza

AGENCY: Animal and Plant Health Inspection Service, USDA.

ACTION: Notice.

SUMMARY: We are advising the public that we added Lebanon to the Animal and Plant Health Inspection Service (APHIS) list maintained on the APHIS Web site of regions considered affected with highly pathogenic avian influenza (HPAI). We are taking this action because of the confirmation of HPAI detection in Lebanon.

DATES: Effective Date: The addition of Lebanon to the APHIS list of regions considered affected with HPAI is effective retroactively to April 22, 2016.

FOR FURTHER INFORMATION CONTACT: Mr. Javier Vargas, Import Risk Analyst, National Import Export Services, VS, APHIS, 4700 River Road, Unit 38, Riverdale, MD 20737; (301) 851-3300; Javier.Vargas@aphis.usda.gov.

SUPPLEMENTARY INFORMATION: The regulations in 9 CFR part 94 (referred to below as the regulations) govern the importation of certain animals and animal products into the United States to prevent the introduction of various animal diseases, including Newcastle disease and highly pathogenic avian influenza (HPAI). The regulations prohibit or restrict the importation of live poultry, poultry meat, and other poultry products from regions where these diseases are considered to exist.

Section 94.6 of part 94 of the regulations contain requirements governing the importation into the United States of carcasses, meat, parts or products of carcasses, and eggs (other than hatching eggs) of poultry, game birds, or other birds from regions of the world where HPAI exists or is reasonably believed to exist. HPAI is an extremely infectious and potentially fatal form of avian influenza in birds and poultry that, once established, can spread rapidly from flock to flock. A list of regions that the Animal and Plant Health Inspection Service (APHIS) considers affected with HPAI of any subtype is maintained on the APHIS Web site at https://www.aphis.usda.gov/aphis/ourfocus/animalhealth/animal-and-animal-product-import-information/ct_animal_disease_status.

APHIS receives notice of HPAI outbreaks from veterinary officials of the exporting country, from the World Organization for Animal Health (OIE), or from other sources the Administrator determines to be reliable. On April 23, 2016, the veterinary authorities of Lebanon reported to the OIE that an HPAI outbreak had been confirmed in the Bekaa region on April 22, 2016. The outbreak affected a farm of approximately 20,000 birds.

In response to this outbreak, APHIS added Lebanon to the list of regions where HPAI exists or is reasonably believed to exist. As a result, live poultry, poultry meat, and other poultry products from Lebanon are subject to APHIS import restrictions designed to mitigate risk of HPAI introduction into the United States. These restrictions are effective retroactively to April 22, 2016.

Authority: 7 U.S.C. 450, 7701-7772, 7781-7786, and 8301-8317; 21 U.S.C. 136 and 136a; 31 U.S.C. 9701; 7 CFR 2.22, 2.80, and 371.4.

Done in Washington, DC, this 13th day of January 2017.
Kevin Shea,
Administrator, Animal and Plant Health Inspection Service.

[FR Doc. 2017-01392 Filed 1-19-17; 8:45 am]

BILLING CODE 3410-34-P